DEPARTMENT OF VETERANS AFFAIRS

[OMB Control No. 2900-New (LGY Foreclosure Impact Survey)]

Proposed Information Collection (Loan Guaranty Service (LGY) Foreclosure Impact Survey—Veterans Recently Separated): Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments for information needed to determine the impact of increased foreclosure rates on the veteran population.

DATES: Written comments and recommendations on the proposed collection of information should be received on or before November 24, 2009.

ADDRESSES: Submit written comments on the collection of information through Federal Docket Management System (FDMS) at http://www.Regulations.gov or to Nancy J. Kessinger, Veterans Benefits Administration (20M35), Department of Veterans Affairs, 810 Vermont Avenue, NW., Washington, DC 20420 or e-mail: nancy.kessinger@va.gov. Please refer to “OMB Control No. 2900-New (LGY Foreclosure Impact Survey)” in any correspondence. During the comment period, comments may be viewed online through FDMS.

FOR FURTHER INFORMATION CONTACT: Nancy J. Kessinger at (202) 461-9769 or Fax (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Loan Guaranty Service (LGY) Foreclosure Impact Survey—Veterans Recently Separated.

OMB Control Number: 2900-New (New (LGY Foreclosure Impact Survey).

Type of Review: New collection.

Abstract: The Foreclosure Impact Survey will be used to respond to Public Law 110-389, Veterans' Benefits Improvement Act of 2008, Section 502, Report on Impact of Mortgage Foreclosures on Veterans. The mission of LGY is to help veterans and active duty personnel purchase and retain homes in recognition of their service to our nation. The program offers many advantages to veterans, including no down payment, and no mortgage insurance premiums.

The survey will address two elements of Public Law 110-389: (1) data regarding the income levels of recently separated veterans and (2) the impact of delays in the adjudication of disability compensation claims on the capacity of veterans to maintain adequate housing.

Affected Public: Individuals or households.

Estimated Annual Burden: 450 hours.

Estimated Average Burden per Respondent: 15 minutes.

Frequency of Response: One time.

Estimated Number of Respondents: 1,800.

Dated: September 21, 2009.
By direction of the Secretary.
Denise McLamb,
Program Analyst, Enterprise Records Service.

[FR Doc. E9-23076 Filed 9-24-09; 8:45 am]

BILLING CODE 8320-01-P